DEPARTMENT OF LABOR

Employment and Training Administration

[TA-W-70,221; TA-W-70,221A]

Wacker Chemical Corporation Wacker Polymers Division a Subsidiary of Wacker Chemie AG Including On-Site Leased Workers From On-Board Services, Inc., Action Mechanical Contractors, Ambient Electrical Contracting, Inc. and Yoh Managed Staffing South Brunswick, NJ; Wacker Chemical Corporation Wacker Polymers Division a Subsidiary of Wacker Chemie AG Including On-Site Leased Workers From Manpower Allentown, PA; Amended Certification Regarding Eligibility To Apply for Worker Adjustment Assistance

In accordance with Section 223 of the Trade Act of 1974, as amended (“Act”), 19 U.S.C. 2273, the Department of Labor issued a Certification of Eligibility to Apply for Worker Adjustment Assistance on July 16, 2009, applicable to workers of Wacker Chemical Corporation, Wacker Polymers Division, a subsidiary of Wacker Chemie AG, including on-site leased workers from Wycoff Group, d/b/a Snelling Staffing and BSS, South Brunswick, New Jersey. The notice was published in the Federal Register on September 2, 2009 (74 FR 45476).

At the request of the Company, the Department reviewed the certification for workers of the subject firm. The workers are engaged in the production of wet emulsion used in the construction industry, such as adhesives, paints, caulks, grouts and paper products.

The company reports that worker separations occurred at the Allentown, Pennsylvania location of the Wacker Polymers Division of Wacker Chemical Corporation. The Allentown, Pennsylvania location provided R&D, application support, tech service, business support functions (sales) service functions for the subject firms' production facility in South Brunswick, New Jersey.

Based on these findings, the Department is amending this certification to include workers of the Wacker Chemical Corporation, Wacker Polymer Division, Allentown, Pennsylvania.

The intent of the Department's certification is to include all workers of the subject firm who were adversely affected by the shift in production of wet emulsions used in the construction industry, such as adhesive, paints, caulks, grouts and paper products to Germany and China.

The amended notice applicable to TA-W-70,221 is hereby issued as follows:

All workers of Wacker Chemical Corporation, Wacker Polymer Division, a subsidiary of Wacker Chemie AG, including on-site leased workers from On-Board Services, Inc., Action Mechanical Contractors, Ambient Electrical Contracting, Inc. and Yoh Managed Staffing South Brunswick, New Jersey (TA-W-70,221) and Wacker Chemical Corporation, Wacker Polymer Division, including on-site leased workers from Manpower, Allentown, Pennsylvania (TA-W-70,221A), who became totally or partially separated from employment on or after May 18, 2008, through July 16, 2011, and all workers in the group threatened with total or partial separation from employment on the date of certification through July 16, 2011, are eligible to apply for adjustment assistance under Chapter 2 of Title II of the Trade Act of 1974, as amended.

Signed at Washington, DC, this 28th day of January 2010.
Michael W. Jaffe,
Certifying Officer, Division of Trade Adjustment Assistance.

[FR Doc. 2010-4242 Filed 3-1-10; 8:45 am]

BILLING CODE 4510-FN-P